DEPARTMENT OF TRANSPORTATION

Federal Highway Administration

Environmental Impact Statement: Washington and Benton Counties, Arkansas

AGENCY: Federal Highway Administration (FHWA), DOT.

ACTION: Notice of intent.

SUMMARY: The FHWA is issuing this notice to advise the public that an environmental impact statement will be prepared for a proposed intermodal highway project in Washington and Benton Counties, Arkansas.

FOR FURTHER INFORMATION CONTACT: Elizabeth Romero, Environmental Specialist, Federal Highway Administration, 3128 Federal Office Building, Little Rock, Arkansas 72201-3298, Telephone: (501) 324-5625; or Brenda Price, Environmental Scientist, Environmental Division, Arkansas State Highway and Transportation Department, Post Office Box 2261, Little Rock, Arkansas 72203, Telephone (501) 569-2281; or Uvalde Lindsey, Northwest Arkansas Regional Airport Authority Staff Consultant, 100 West Center Street, Suite 300, Fayetteville, Arkansas 72701, Telephone (501) 582-2100.

SUPPLEMENTARY INFORMATION: The FHWA, in cooperation with the Arkansas Department of Transportation and the Northwest Arkansas Regional Airport Authority, will prepare an environmental impact statement (EIS) on a proposal to construct a new intermodal access road to the Northwest Arkansas Regional Airport. It is intended that the access road be a toll road. The proposed construction would involve a new intermodal toll road from either US 71 or US 412 on the existing Federal Highway System and connect to the Northwest Arkansas Regional Airport, for a distance of approximately eight to twelve miles (13 to 19 kilometers).

The new access road is considered necessary to provide for existing and projected traffic demand to the airport. Bridges and water crossings will be required, the number and location depending upon the exact route. Alternatives under consideration include (1) taking no action, (2) improving the existing highways, and (3) constructing a new access road at a new location. Several location alternatives will be considered.

Letters describing the proposed action and soliciting comments will be sent to appropriate Federal, State and local agencies, and to private organizations and citizens who have previously expressed or are known to have interest in the proposal. A formal public Scoping meeting will be held on March 28, 2000, between the hours of 4:00 p.m. and 7:00 p.m. at the City Hall, Elm Springs, Arkansas. A series of public meetings will be held in the project area during the course of the Study. In addition, a public hearing will be held. Public notice will be given of the time and place of the meetings and hearing. The draft EIS will be available for public and agency review and comment prior to the public hearing.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: January 24, 2000.
Elizabeth Romero,
Environmental Specialist,Federal Highway Administration,Little Rock, Arkansas.

[FR Doc. 00-2517 Filed 2-3-00 8:45 am]

BILLING CODE 4910-22-M